DEPARTMENT OF TRANSPORTATION

Federal Aviation Administration

Commercial Space Transportation Grant Program

AGENCY: Federal Aviation Administration (FAA), DOT.

ACTION: Notice of request for grant proposals for the Commercial Space Transportation Grant Program.

SUMMARY: The FAA's Office of Commercial Space Transportation (AST) requests grant proposals pursuant to its newly funded Commercial Space Transportation Grant Program. This program has an initial appropriation of $500,000 to be used for space transportation infrastructure projects. The FAA desires to award the appropriated funds before the end of fiscal year 2010. The FAA will review and evaluate all applications for a grant under 49 U.S.C. chapter 703 (Chapter 703). The FAA may make one or more grant awards based upon its evaluations of the grant proposals. All grants awarded under this program are discretionary awards.

DATES: Commercial Space Transportation Grant applications are due on or before July 6, 2010.

ADDRESSES: You can get more information about the Commercial Space Transportation Grant Program by:

1. Accessing the Office of Commercial Space Transportation Web site at http://www.faa.gov/go/ast; and

2. Contacting Glenn Rizner or Michael McElligott, AST-100, or, for legal questions, Laura Montgomery, AGC-200, 800 Independence Avenue, SW., Washington, DC 20591;

| Phone | Email | FAX
Glenn Rizner | 202-267-3194 | Glenn.H.Rizner@faa.gov | 202-267-5463
Michael McElligott | 202-267-7859 | Michael.McElligott@faa.gov | 202-267-5463
Laura Montgomery | 202-267-3150 | Laura.Montgomery@faa.gov | 202-267-7971

SUPPLEMENTARY INFORMATION:

Background

One of the main purposes of the Commercial Space Transportation Grant Program is to ensure the resiliency of the space transportation infrastructure in the United States. To help further the United States' goals, Congress established a Space Transportation Infrastructure Grant program under 49 U.S.C. Subtitle IX—Commercial Space Transportation—Chapter 703—Space Transportation Infrastructure Matching Grants, Section 70305, Authorization of appropriations. Public Law (Pub. L.) 103-272, Sec. 1(e), 108 Stat. 1345 (July 5, 1994). This legislation authorizes the use of Federal monies in conjunction with matching state, local government, and private funds.

Although the Congressional authorization has been in effect for some time, FY 2010 is the first year Federal funds have been appropriated. The Consolidated Appropriations Act for 2010 (Pub. L. 111-117) appropriated $500,000.00 for the FAA's Commercial Space Transportation Grant program. The FAA's Office of Commercial Space Transportation is responsible for overseeing the program. Although the FAA will be developing more detailed guidance to administer this program, the FAA intends to disburse these funds on or before August 31, 2010. Accordingly, applicants must submit their grant proposals by July 6, 2010, which will fall before more detailed guidance becomes available.

The Commercial Space Transportation Grant Program

The Commercial Space Transportation Grant Program is intended to “ensure the resiliency of the space transportation infrastructure of the United States * * * ” 49 U.S.C. 70302. Development projects eligible for funding include technical and environmental studies; construction, improvement, and design and engineering of space transportation infrastructure, including facilities and associated equipment; and real property to meet the needs of the United States commercial space transportation industry.

Who May Apply for a Commercial Space Transportation Grant

The FAA may make project grants to sponsors. 49 U.S.C. 70303(a). Chapter 703 defines a sponsor as a public agency that submits an application for a project grant. 49 U.S.C. 70301(6). A public agency is a State or an agency of a State, a political subdivision of a State, or a tax-supported organization. 49 U.S.C. 70301(5).

How To Apply for a Commercial Space Transportation Grant

Applicants for grants under the Commercial Space Transportation Grant Program must submit grant proposals to the FAA AST. A complete SF-424, Application for Federal Assistance (OMB Number 4040-0004) is a component of all grant proposals. SF-424 forms are available on the Grants.gov Web site: http://www.grants.gov/agencies/aforms_repository_ information.jsp. In addition, a grant applicant should use SF-424A for non-construction proposals or SF-424C for construction proposals. These forms request specific applicant information, proposed project information, and an estimate of project funding and duration. The grant proposal should detail how the proposed project meets the requirements of Chapter 703. In addition, the forms request detailed and thorough project budget information. The Commercial Space Transportation Grant Program will not fund more than 50% of the total project cost, and project financing must include a private component of at least 10% of the total project cost. 49 U.S.C. 70302.

Given that the FAA may award multiple grants, the grant proposals may include multiple or alternative funding proposals for financing the proposed project. Applicants may submit multiple grant proposals.

The grant proposal should also indicate how applicable environmental requirements were or will be satisfied. See Guidelines for Compliance with the National Environmental Policy Act and Related Environmental Review Statutes for the Licensing of Commercial Launches and Launch Sites; http://www.faa.gov/about/office_org/headquarters_offices/ast/environmental/review.

Applicants must submit an original plus three copies of the completed grant proposal to: Federal Aviation Administration, Office of Commercial Space Transportation, Space Systems Development Division (AST-100), 800 Independence Avenue, SW., Suite 331, Washington, DC 20591.

Grant proposals are due on or before July 6, 2010. Given the time constraints on the FAA to award its grants, there will be no allowance for extensions of time.

Grant Application Review

The FAA will review grant proposals using the criteria of Chapter 703 and will consider the following factors in its evaluation:

1. The contribution of the project to industry capabilities that serve the United States Government's space transportation needs;

2. The extent of industry's financial contribution to the project;

3. The extent of industry's participation in the project;

4. The positive impact of the project on the international competitiveness of the United States space transportation industry;

5. The extent of State contributions to the project; and

6. The impact of the project on launch operations and other activities at Government launch ranges.

49 U.S.C. 70303(b). All grant awards made under this program are discretionary. The FAA may approve an application only if satisfied that—

1. The project will contribute to ensuring the resiliency of the space transportation infrastructure of the United States;

2. The project is reasonably consistent with plans of public agencies that are authorized by the State in which the project is located and responsible for development of the surrounding area;

3. The consent of the head of the appropriate agency for the use of any government property has been obtained;

4. The project will be completed without unreasonable delay;

5. The sponsor has the legal authority to engage in the project.

49 U.S.C. 70303(c). Additionally, the FAA may make a project grant only if at least 10 percent of the total cost of the project will be paid by the private sector and the grant will not be for more than 50 percent of the total cost of the project. 49 U.S.C. 70302(b). Applicants should submit the information necessary for the FAA to make these determinations as part of their applications.

Environmental Requirements

Approval of grant funding is a federal action subject to review under the National Environmental Policy Act of 1969, 42 U.S.C. 4321 et seq., as implemented by the regulations of the Council on Environmental Quality at 40 CFR part 1500 and FAA Order 1050.1E, and other Federal environmental laws. Because of this, the FAA anticipates that it may be most cost-effective for applicants who have already undergone a NEPA review to apply for a grant this fiscal year. For example, a launch site that has already received a license to operate will have conducted a NEPA review. The launch site operator could seek a grant for projects that the FAA approved as part of that license.

Under 49 U.S.C. 70304, infrastructure development projects selected for a Commercial Space Transportation Grant must meet three additional environmental requirements. First, such projects must provide for the protection and enhancement of the natural resources and the quality of the environment of the United States. Specifically, if a project will have a significant adverse environmental impact, the FAA shall approve the grant application only after finding that no feasible and prudent alternative to the project exists and that all reasonable steps have been taken to minimize the adverse effect. Second, the project sponsor must certify that an opportunity for a public hearing has been provided to consider potential environmental impacts of the project and its consistency with the goals of any planning carried out by the community. Third, the Governor of the State in which the project is located, or his or her designee, must certify that there is reasonable assurance the project will be located, designed, constructed, and operated to comply with applicable air and water quality standards.

Planning projects such as technical and environmental studies normally qualify for categorical exclusion under NEPA and would not trigger the requirements under 49 U.S.C. 70304 and as set forth above. If, absent consideration of section 70304, the project normally qualifies for a categorical exclusion from environmental review, the grant proposal should reference the relevant paragraph in FAA Order 1050.1E, Policies and Procedures for Considering Environmental Impacts, and address whether extraordinary circumstances exist that warrant preparation of an environmental assessment.

For more details about the environmental review for commercial space transportation activities see Guidelines for Compliance with the National Environmental Policy Act and Related Environmental Review Statutes for the Licensing of Commercial Launches and Launch Sites. http://www.faa.gov/about/office_org/headquarters_offices/ast/environmental/review.

Grant Award

The FAA Office of Commercial Space Transportation intends to award Commercial Space Transportation Grants on or before August 31, 2010. An FAA grant offer letter may contain requirements for assurances to ensure the grants are consistent with Chapter 703. These grant assurances are currently in development and not finalized at the date of this publication. The FAA anticipates that the Commercial Space Transportation Grant Assurances will be similar in nature and purpose to those required under the Airport Improvement Program.

Issued in Washington, DC, on April 28, 2010.
George C. Nield,
Associate Administrator for Commercial Space Transportation.

[FR Doc. 2010-10320 Filed 5-3-10; 8:45 am]

BILLING CODE 4910-13-P